MERIT SYSTEMS PROTECTION BOARD

5 CFR Part 1205

Privacy Act Regulations

AGENCY: Merit Systems Protection Board.

ACTION: Final rule.

SUMMARY: The Merit Systems Protection Board (MSPB or the Board) is amending its rules in this part to reflect the relocation of its Washington, DC, headquarters. On July 24, 2000, the Board relocated its headquarters offices from 1120 Vermont Avenue, NW., to 1615 M Street, NW. The amendments to this part advise interested persons that requests for access to records located at the Board's headquarters must be sent to the Clerk of the Board at the new address, that requests for amendment of records located at the Board's headquarters must be sent to the Clerk of the Board at the new address, and that appeals of denials of requests for amendment of records must be filed with the Chairman at the new address.

EFFECTIVE DATE: August 10, 2000.

FOR FURTHER INFORMATION CONTACT: Robert E. Taylor, Clerk of the Board, (202) 653-7200.

The Board is publishing this rule as a final rule pursuant to 5 U.S.C. 1204(h).

List of Subjects in 5 CFR Part 1205

Privacy.

Accordingly, the Board amends 5 CFR part 1205 as follows:

PART 1205—PRIVACY ACT REGULATIONS

1. The authority citation for part 1205 continues to read as follows:

Authority: 5 U.S.C. 552a and 1204.

§ 1205.11 [Amended]

2. Amend 5 CFR 1205.11 at paragraph (a) by removing “1120 Vermont Avenue, NW.” and by adding in its place “1615 M Street, NW.”

§ 1205.21 [Amended]

3. Amend 5 CFR 1205.21 in the introductory text by removing “1120 Vermont Avenue, NW.” and by adding in its place “1615 M Street, NW.”

§ 1205.31 [Amended]

4. Amend 5 CFR 1205.31 at paragraph (a) by removing “1120 Vermont Avenue, NW.” and by adding in its place “1615 M Street, NW.”

Dated: August 4, 2000.
Robert E. Taylor,
Clerk of the Board.

[FR Doc. 00-20217 Filed 8-9-00; 8:45 am]

BILLING CODE 7400-01-M